DEPARTMENT OF THE TREASURY

Internal Revenue Service

Proposed Extension of Information Collection Request Submitted for Public Comment; Comment Request for U.S. Income Tax Return Forms for Individual Taxpayers

AGENCY: Internal Revenue Service (IRS), Treasury.

ACTION: Notice and request for comments.

SUMMARY: The Internal Revenue Service, as part of its continuing effort to reduce paperwork and respondent burden, invites the public and other Federal agencies to take this opportunity to comment on proposed and/or continuing information collections, as required by the Paperwork Reduction Act of 1995. Currently, the IRS is soliciting comments concerning the burden associated with the U.S. Income Tax Return Forms for Individual Taxpayers.

DATES: Written comments should be received on or before December 29, 2020 to be assured of consideration.

ADDRESSES: Direct all written comments to Kinna Brewington, Internal Revenue Service, Room 6129, 1111 Constitution Avenue NW, Washington, DC 20224. Requests for additional information or copies of the forms should be directed to R. Joseph Durbala, at Internal Revenue Service, Room 6129, 1111 Constitution Avenue NW, Washington, DC 20224, or through the internet, at RJoseph.Durbala@irs.gov.

SUPPLEMENTARY INFORMATION: Title: U.S. Income Tax Return for Individual Taxpayers.

OMB Number: 1545-0074.

Regulation Project Number: Form 1040 and affiliated return forms.

Abstract: IRC sections 6011 & 6012 of the Internal Revenue Code require individuals to prepare and file income tax returns annually. These forms and related schedules are used by individuals to report their income subject to tax and compute their correct tax liability. This information collection request (ICR), covers the actual reporting burden associated with preparing and submitting the prescribed return forms, by individuals required to file Form 1040 and any of its' affiliated forms as explained in the attached table.

Current Actions: There have been changes in regulatory guidance related to various forms approved under this approval package during the past year. There have been additions and removals of forms included in this approval package. It is anticipated that these changes will have an impact on the overall burden and cost estimates requested for this approval package, however these estimates were not finalized at the time of release of this notice. These estimated figures are expected to be available by the release of the 30-comment notice from OMB. This approval package is being submitted for renewal purposes only.

Type of Review: Revision of a currently approved collection.

Affected Public: Individuals or Households, Farms.

Estimated Number of Respondents: 182,050,000.

Estimated Time per Respondent: 9 hrs. 27 mins.

Estimated Total Annual Burden Hours: 1,721,229,167.

The following paragraph applies to all the collections of information covered by this notice:

An agency may not conduct or sponsor, and a person is not required to respond to, a collection of information unless the collection of information displays a valid OMB control number.

Books or records relating to a collection of information must be retained if their contents may become material in the administration of any internal revenue law. Generally, tax returns and tax return information are confidential, as required by 26 U.S.C. 6103.

Desired Focus of Comments: The Internal Revenue Service (IRS) is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including using appropriate automated, electronic, mechanical, or other technological collection techniques or other forms of information technology, e.g., by permitting electronic submissions of responses.

Comments submitted in response to this notice will be summarized and/or included in the ICR for OMB approval of the extension of the information collection; they will also become a matter of public record.

Approved: October 27, 2020.
R. Joseph Durbala,
IRS Tax Analyst.

Individual Tax Forms
Type | Form No. | Form name | URL | Type | Form No. | Form name | URL
Form | Form 1040 | U.S. Individual Tax Return | https://www.irs.gov/pub/irs-pdf/f1040.pdf | Form and Instruction | Form 8453(SP) | U.S. Individual Income Tax Declaration for an IRS e-file Return (Spanish version) | https://www.irs.gov/pub/irs-pdf/f8453sp.pdf.
Instruction |  |  | https://www.irs.gov/pub/irs-pdf/i1040gi.pdf | Form | Form 8582 | Passive Activity Loss Limitation | https://www.irs.gov/pub/irs-pdf/f8582.pdf.
Form | Form 1040 Schedule 1 | Form 1040 Schedule 1 Additional Income and Adjustments to Income | https://www.irs.gov/pub/irs-pdf/f1040s1.pdf | Instruction |  |  | https://www.irs.gov/pub/irs-pdf/i8582.pdf.
Form | Form 1040 Schedule 1 (SP) | Additional Income and Adjustments to Income in Spanish | Still under development at the time of release of this notice | Form | Form 8582-CR | Passive Activity Credit Limitations | https://www.irs.gov/pub/irs-pdf/f8582cr.pdf.
Form | Form 1040 Schedule 2 | Form 1040 Schedule 2 Tax | https://www.irs.gov/pub/irs-pdf/f1040s2.pdf | Instruction |  |  | https://www.irs.gov/pub/irs-pdf/i8582cr.pdf.
Form | Form 1040 Schedule 2 (SP) | Additional Taxes in Spanish | Still under development at the time of release of this notice | Form | Form 8586 | Low-Income Housing Credit | https://www.irs.gov/pub/irs-pdf/f8586.pdf.
Form | Form 1040 Schedule 3 | Form 1040 Schedule 3 Nonrefundable Credits | https://www.irs.gov/pub/irs-pdf/f1040s3.pdf | Form | Form 8594 | Asset Acquisition Statement Under Section 1060 | https://www.irs.gov/pub/irs-pdf/f8594.pdf.
Form | Form 1040 Schedule 3 (SP) | Additional Credits and Payments in Spanish | Still under development at the time of release of this notice | Instruction |  |  | https://www.irs.gov/pub/irs-pdf/i8594.pdf.
Form | Form 1040 Schedule 4 | Form 1040 Schedule 4 Other Taxes | Historical: 2019-05-01 | Form | Form 8606 | Nondeductible IRAs | https://www.irs.gov/pub/irs-pdf/f8606.pdf.
Form | Form 1040 Schedule 5 | Form 1040 Schedule 5 Other payments and Refundable Credits | Historical: 2019-05-01 | Instruction |  |  | https://www.irs.gov/pub/irs-pdf/i8606.pdf.
Form | Form 1040 Schedule 6 | Form 1040 Schedule 6 Foreign Address and Third-Party Designee | Historical: 2019-05-02 | Form | Form 8609-A | Annual Statement for Low-Income Housing Credit | https://www.irs.gov/pub/irs-pdf/f8609a.pdf.
Form | Form 1040-C | U.S. Departing Alien Income Tax Return | https://www.irs.gov/pub/irs-pdf/f1040c.pdf | Instruction |  |  | https://www.irs.gov/pub/irs-pdf/i8609a.pdf.
Instruction |  |  | https://www.irs.gov/pub/irs-pdf/i1040c.pdf | Form and Instruction | Form 8611 | Recapture of Low-Income Housing Credit | https://www.irs.gov/pub/irs-pdf/f8611.pdf.
Form | Form 1040 X | Amended U.S. Individual Income Tax Return | https://www.irs.gov/pub/irs-pdf/f1040x.pdf | Form | Form 8615 | Tax for Certain Children Who Have Investment Income of More than $1,800 | https://www.irs.gov/pub/irs-pdf/f8615.pdf.
Instruction |  |  | https://www.irs.gov/pub/irs-pdf/i1040x.pdf | Instruction |  |  | https://www.irs.gov/pub/irs-pdf/i8615.pdf.
Form | Form 1040 NR | U.S. Nonresident Alien Income Tax Return | https://www.irs.gov/pub/irs-pdf/f1040nr.pdf | Form | Form 8621 | Return by a Shareholder of a Passive Foreign Investment Company or Qualified Electing Fund | https://www.irs.gov/pub/irs-pdf/f8621.pdf.
Instruction |  |  | https://www.irs.gov/pub/irs-pdf/i1040nr.pdf | Instruction |  |  | https://www.irs.gov/pub/irs-pdf/i8621.pdf.
Form | Form 1040 NR-EZ | U.S. Income Tax Return for Certain Nonresident Aliens with No Dependents | https://www.irs.gov/pub/irs-pdf/f1040nre.pdf | Form | Form 8621-A | Return by a Shareholder Making Certain Late Elections to End Treatment as a Passive Foreign Investment Company | https://www.irs.gov/pub/irs-pdf/f8621a.pdf.
Instruction | Form 1040 NR-EZ | https://www.irs.gov/pub/irs-pdf/i1040nre.pdf | Instruction |  |  | https://www.irs.gov/pub/irs-pdf/i8621a.pdf.
Form | Form 1040-PR | Planilla para la Declaracion de la Contribucion Federal sobre el Trabajo por Cuenta Propia (Incluyendo el Credito Tributario Adicional por Hijos para Residentes Bona Fide de Puerto Rico) | https://www.irs.gov/pub/irs-pdf/f1040pr.pdf | Form and Instruction | Form 8689 | Allocation of Individual Income Tax to the Virgin Islands | https://www.irs.gov/pub/irs-pdf/f8689.pdf.
Instruction |  | Instrucciones para el Formulario 1040-PR, Planilla Para La Declaracion De La Contribucion Federal Sobre El Trabajo Por Cuenta Propia—Puerto Rico | https://www.irs.gov/pub/irs-pdf/i1040pr.pdf | Form | Form 8697 | Interest Computations Under the Look-Back Method for Completed Long-Term Contracts | https://www.irs.gov/pub/irs-pdf/f8697.pdf.
Form | Form 1040-SR | U.S. Income Tax Return for Seniors | https://www.irs.gov/pub/irs-pdf/f1040s.pdf | Instruction |  |  | https://www.irs.gov/pub/irs-pdf/i8697.pdf.
Form | Form 1040-SS | U.S. Self-Employment Tax Return (Including the Additional Child Tax Credit for Bona Fide Residents of Puerto Rico) | https://www.irs.gov/pub/irs-pdf/f1040ss.pdf | Form | Form 8801 | Credit for Prior Year Minimum Tax-Individuals, Estates, and Trusts | https://www.irs.gov/pub/irs-pdf/f8801.pdf.
Instruction |  | Instructions for Form 1040-SS, U.S. Self-Employment Tax Return (Including the Additional Child Tax Credit for Bona Fide Residents of Puerto Rico) | https://www.irs.gov/pub/irs-pdf/i1040ss.pdf | Instruction |  |  | https://www.irs.gov/pub/irs-pdf/i8801.pdf.
Form | Schedule A (1040) | Itemized Deductions | https://www.irs.gov/pub/irs-pdf/f1040sa.pdf | Form | Schedule 8812 (Form 1040) | Additional Child Tax Credit | https://www.irs.gov/pub/irs-pdf/f1040s8.pdf.
Instruction |  |  | https://www.irs.gov/pub/irs-pdf/i1040sca.pdf | Instruction |  | Instructions for Schedule 8812 | https://www.irs.gov/pub/irs-pdf/i1040s8.pdf.
Form and Instruction | Schedule B (Form 1040) | Interest and Ordinary Dividends | https://www.irs.gov/pub/irs-pdf/f1040sb.pdf | Form | Schedule 8812(SP) (Form 1040) | Additional Tax Credit (Spanish version) | Still under development at the time of release of this notice.
Form | Schedule C (Form 1040) | Profit or Loss from Business | https://www.irs.gov/pub/irs-pdf/f1040sc.pdf | Instruction |  | Instructions for Schedule 8812 (Spanish version) | Still under development at the time of release of this notice.
Instruction |  |  | https://www.irs.gov/pub/irs-pdf/i1040sc.pdf | Form and Instruction | Form 8814 | Parents' Election to Report Child's Interest and Dividends | https://www.irs.gov/pub/irs-pdf/f8814.pdf.
Form and Instruction | Schedule C-EZ (Form 1040) | Net Profit from Business | Historical: 2020-02-28 | Form and Instruction | Form 8815 | Exclusion of Interest from Series EE and I U.S. Savings Bonds Issued After 1989 | https://www.irs.gov/pub/irs-pdf/f8815.pdf.
Form | Schedule D (Form 1040) | Capital Gains and Losses | https://www.irs.gov/pub/irs-pdf/f1040sd.pdf | Form and Instruction | Form 8818 | Optional Form to Record Redemption of Series EE and I U.S. Savings Bonds Issued After 1989 | https://www.irs.gov/pub/irs-pdf/f8818.pdf.
Instruction |  |  | https://www.irs.gov/pub/irs-pdf/i1040sd.pdf | Form and Instruction | Form 8820 | Orphan Drug Credit | https://www.irs.gov/pub/irs-pdf/f8820.pdf.
Form | Schedule E (Form 1040) | Supplemental Income and Loss | https://www.irs.gov/pub/irs-pdf/f1040se.pdf | Form | Form 8824 | Like-Kind Exchanges | https://www.irs.gov/pub/irs-pdf/f8824.pdf.
Form and Instruction | Schedule EIC (Form 1040) | Earned Income Credit | https://www.irs.gov/pub/irs-pdf/f1040sei.pdf | Instruction |  |  | https://www.irs.gov/pub/irs-pdf/i8824.pdf.
Form | Schedule EIC (SP) (F. 1040) | Earned Income Credit (Spanish version) | Still under development at the time of release of this notice | Form and Instruction | Form 8826 | Disabled Access Credit | https://www.irs.gov/pub/irs-pdf/f8826.pdf.
Form | Schedule F (Form 1040) | Profit or Loss from Farming | https://www.irs.gov/pub/irs-pdf/f1040sf.pdf | Form | Form 8828 | Recapture of Federal Mortgage Subsidy | https://www.irs.gov/pub/irs-pdf/f8828.pdf.
Instruction |  |  | https://www.irs.gov/pub/irs-pdf/i1040sf.pdf | Instruction |  |  | https://www.irs.gov/pub/irs-pdf/i8828.pdf.
Form | Schedule H (Form 1040) and Sch H(PR) | Household Employment Taxes | https://www.irs.gov/pub/irs-pdf/f1040sh.pdf | Form | Form 8829 | Expenses for Business Use of Your Home | https://www.irs.gov/pub/irs-pdf/f8829.pdf.
Instruction |  |  | https://www.irs.gov/pub/irs-pdf/i1040sh.pdf | Instruction |  |  | https://www.irs.gov/pub/irs-pdf/i8829.pdf.
Form | Schedule J (Form 1040) | Income Averaging for Farmers and Fishermen | https://www.irs.gov/pub/irs-pdf/f1040sj.pdf | Form and Instruction | Form 8833 | Treaty-Based Return Position Disclosure Under Section 6114 or 7701(b) | https://www.irs.gov/pub/irs-pdf/f8833.pdf.
Instruction |  |  | https://www.irs.gov/pub/irs-pdf/i1040sj.pdf | Form | Form 8834 | Qualified Electric Vehicle Credit | https://www.irs.gov/pub/irs-pdf/f8834.pdf.
Form | Schedule LEP | Request for Alternative Language Products by Taxpayers with Limited English Proficiency (LEP) | Still under development at the time of release of this notice | Form and Instruction | Form 8835 | Renewable Electricity, Refined Coal, and Indian Coal Production Credit | https://www.irs.gov/pub/irs-pdf/f8835.pdf.
Form | Schedule LEP (SP) | Schedule LEP Limited English Proficiency (SP) | Still under development at the time of release of this notice | Instruction |  |  | https://www.irs.gov/pub/irs-pdf/i8835.pdf.
Form | Schedule R (Form 1040) | Credit for the Elderly or the Disabled | https://www.irs.gov/pub/irs-pdf/f1040sr.pdf | Form and Instruction | Form 8838 | Consent to Extend the Time to Assess Tax Under Section 367-Gain Recognition Agreement | https://www.irs.gov/pub/irs-pdf/f8838.pdf.
Instruction |  |  | https://www.irs.gov/pub/irs-pdf/i1040sr.pdf | Form | Form 8839 | Qualified Adoption Expenses | https://www.irs.gov/pub/irs-pdf/f8839.pdf.
Form | Schedule SE (Form 1040) | Self-Employment Tax | https://www.irs.gov/pub/irs-pdf/f1040sse.pdf | Instruction |  |  | https://www.irs.gov/pub/irs-pdf/i8839.pdf.
Instruction |  |  | https://www.irs.gov/pub/irs-pdf/i1040sse.pdf | Form and Instruction | Form 8840 | Closer Connection Exception Statement for Aliens | https://www.irs.gov/pub/irs-pdf/f8840.pdf.
Form and Instruction | Form 1040 V | Payment Voucher | https://www.irs.gov/pub/irs-pdf/f1040v.pdf | Form and Instruction | Form 8843 | Statement for Exempt Individuals and Individuals with a Medical Condition | https://www.irs.gov/pub/irs-pdf/f8843.pdf.
Form and Instruction | Form 1040 ES/OCR | Estimated Tax for Individuals (Optical Character Recognition with Form 1040V) | Form 1040-ES(OCR) contains four estimated tax payment vouchers. Form 1040-ES (OCR) is included in the 2020 Tax Package 1040ES/V mail out | Form and Instruction | Form 8844 | Empowerment Zone and Renewal Community Employment Credit | https://www.irs.gov/pub/irs-pdf/f8844.pdf.
Form and Instruction | Form 1040 ES | Estimate Tax for Individuals | https://www.irs.gov/pub/irs-pdf/f1040es.pdf | Instruction |  |  | https://www.irs.gov/pub/irs-pdf/i8844.pdf.
Form and Instruction | Form 1040 ES (NR) | U.S. Estimated Tax for Nonresident Alien Individuals | https://www.irs.gov/pub/irs-pdf/f1040esn.pdf | Form | Form 8845 | Indian Employment Credit | https://www.irs.gov/pub/irs-pdf/f8845.pdf.
Form and Instruction | Form 1040 ES (PR) | Federales Estimadas del Trabajo por Cuenta Propia y sobre el Impleo de Empleados Domestocs-Puerto Rico | https://www.irs.gov/pub/irs-pdf/f1040esp.pdf | Instruction |  |  | https://www.irs.gov/pub/irs-pdf/i8845.pdf.
Form | Form 461 | Limitation on Business Losses | https://www.irs.gov/pub/irs-pdf/f461.pdf | Form and Instruction | Form 8846 | Credit for Employer Social Security and Medicare Taxes Paid on Certain Employee Tips | https://www.irs.gov/pub/irs-pdf/f8846.pdf.
Instruction |  | Instructions for Form 461, Limitation on Business Losses | https://www.irs.gov/pub/irs-pdf/f461.pdf | Form | Form 8853 | Archer MSA's and Long-Term Care Insurance Contracts | https://www.irs.gov/pub/irs-pdf/f8853.pdf.
Form and Instruction | Form 673 | Statement for Claiming Exemption from Withholding on Foreign Earned Income Eligible for the Exclusions Provided by Section 911 | https://www.irs.gov/pub/irs-pdf/f673.pdf | Instruction |  |  | https://www.irs.gov/pub/irs-pdf/i8853.pdf.
Form | Form 926 | Return by a U.S. Transferor of Property to a Foreign Corporation | https://www.irs.gov/pub/irs-pdf/f926.pdf | Form | Form 8854 | Initial and Annual Expatriation Information Statement | https://www.irs.gov/pub/irs-pdf/f8854.pdf.
Instruction |  |  | https://www.irs.gov/pub/irs-pdf/i926.pdf | Instruction |  |  | https://www.irs.gov/pub/irs-pdf/i8854.pdf.
Form | Form 965-A | Individual Report of Net 965 Tax Liability | https://www.irs.gov/pub/irs-pdf/f965a.pdf | Form | Form 8858 | Information Return of U.S. Persons with Respect to Foreign Disregarded Entities | https://www.irs.gov/pub/irs-pdf/f8858.pdf.
Instruction | Form 965-A |  | https://www.irs.gov/pub/irs-pdf/i965a.pdf | Form | Schedule M (Form 8858) | Transactions Between controlled Foreign Disregarded Entity and Filer or Other Related Entities | https://www.irs.gov/pub/irs-pdf/f8858sm.pdf.
Form | Form 965-C | Transfer Agreement Under 965(h)(3) | https://www.irs.gov/pub/irs-pdf/f965c.pdf | Instruction |  |  | https://www.irs.gov/pub/irs-pdf/i8858.pdf.
Instruction |  |  | https://www.irs.gov/pub/irs-pdf/i965c.pdf | Form | Form 8859 | District of Columbia First-Time Homebuyer Credit | https://www.irs.gov/pub/irs-pdf/f8859.pdf.
Form and Instruction | Form 970 | Application to Use LIFO Inventory Method | https://www.irs.gov/pub/irs-pdf/f970.pdf | Form | Form 8862 | Information to Claim Earned Income Credit After Disallowance | https://www.irs.gov/pub/irs-pdf/f8862.pdf.
Form and Instruction | Form 972 | Consent of Shareholder to Include Specific Amount in Gross Income | https://www.irs.gov/pub/irs-pdf/f972.pdf | Form | Form 8862(SP) | Information to Claim Earned Income Credit After Disallowance (Spanish Version) | https://www.irs.gov/pub/irs-pdf/f8862sp.pdf.
Form and Instruction | Form 982 | Reduction of Tax Attributes Due to Discharge of Indebtedness (and Section 1082 Basis Adjustment) | https://www.irs.gov/pub/irs-pdf/f982.pdf | Instruction |  |  | https://www.irs.gov/pub/irs-pdf/i8862sp.pdf.
Form | Form 1045 | Application for Tentative Refund | https://www.irs.gov/pub/irs-pdf/f1045.pdf | Form | Form 8863 | Education Credits | https://www.irs.gov/pub/irs-pdf/f8863.pdf.
Instruction |  |  | https://www.irs.gov/pub/irs-pdf/i1045.pdf | Instruction |  |  | https://www.irs.gov/pub/irs-pdf/i8863.pdf.
Form | Form 1098-F | Fines, Penalties and Other Amounts | https://www.irs.gov/pub/irs-pdf/f1098f.pdf | Form | Form 8864 | Biodiesel and Renewable Diesel Fuels Credit | https://www.irs.gov/pub/irs-pdf/f8864.pdf.
Instruction |  | Instructions for Form 1098-F, Fines, Penalties and Other Amounts | https://www.irs.gov/pub/irs-pdf/i1098f.pdf | Instruction |  | Instructions for Form 8864, Biodiesel and Renewable Diesel Fuels Credit | https://www.irs.gov/pub/irs-pdf/i8864.pdf.
Form | Form 1116 | Foreign Tax Credit | https://www.irs.gov/pub/irs-pdf/f1116.pdf | Form | Form 8865 | Return of U.S. Persons with Respect to Certain Foreign Partnerships | https://www.irs.gov/pub/irs-pdf/f8865.pdf.
Instruction |  |  | https://www.irs.gov/pub/irs-pdf/i1116.pdf | Form | Schedule K-1 (Form 8865) | Partner's Share of Income Deductions, Credits, etc. | https://www.irs.gov/pub/irs-pdf/f8865sk1.pdf.
Form and Instruction | Form 1127 | Application for Extension of Time for Payment of Tax | https://www.irs.gov/pub/irs-pdf/f1127.pdf | Form | Schedule O (Form 8865) | Transfer of Property to a Foreign Partnership | https://www.irs.gov/pub/irs-pdf/f8865so.pdf.
Form | Form 1128 | Application to Adopt, Change, or Retain a Tax Year | https://www.irs.gov/pub/irs-pdf/f1128.pdf | Form | Schedule P (Form 8865) | Acquisitions, Dispositions, and Changes of Interests in a Foreign Partnership | https://www.irs.gov/pub/irs-pdf/f8865sp.pdf.
Instruction |  |  | https://www.irs.gov/pub/irs-pdf/i1128.pdf | Instruction |  |  | https://www.irs.gov/pub/irs-pdf/i8865.pdf.
Form and Instruction | Form 1310 | Statement of Person Claiming Refund Due to a Deceased Taxpayer | https://www.irs.gov/pub/irs-pdf/f1310.pdf | Form | Form 8866 | Interest Corporation Under the Look-Back Method for Property Depreciated Under the Income Forecast Method | https://www.irs.gov/pub/irs-pdf/f8866.pdf.
Form | Form 2106 | Employee Business Expenses | https://www.irs.gov/pub/irs-pdf/f2106.pdf | Instruction |  |  | https://www.irs.gov/pub/irs-pdf/i8866.pdf.
Instruction |  |  | https://www.irs.gov/pub/irs-pdf/i2106.pdf | Form 8867 |  | Paid Preparer's Due Diligence Checklist | https://www.irs.gov/pub/irs-pdf/f8867.pdf.
Form and Instruction | Form 2106-EZ | Unreimbursed Employee Business Expenses | Historical: 2019-05-09 | Instruction |  |  | https://www.irs.gov/pub/irs-pdf/i8867.pdf.
Form and Instruction | Form 2120 | Multiple Support Declaration | https://www.irs.gov/pub/irs-pdf/f2120.pdf | Form | Form 8873 | Extraterritorial Income Exclusion | https://www.irs.gov/pub/irs-pdf/f8873.pdf.
Form | Form 2210 | Underpayment of Estimated Tax by Individuals, Estates, and Trusts | https://www.irs.gov/pub/irs-pdf/f2210.pdf | Instruction |  |  | https://www.irs.gov/pub/irs-pdf/i8873.pdf.
Instruction |  |  | https://www.irs.gov/pub/irs-pdf/i2210.pdf | Form and Instruction | Form 8874 | New Markets Credit | https://www.irs.gov/pub/irs-pdf/f8874.pdf.
Form | Form 2210-F | Underpayment of Estimated Tax by Farmers and Fishermen | https://www.irs.gov/pub/irs-pdf/f2210f.pdf | Form and Instruction | Form 8878 | IRS e-file Signature Authorization for Form 4686 or Form 2350 | https://www.irs.gov/pub/irs-pdf/f8878.pdf.
Instruction |  |  | https://www.irs.gov/pub/irs-pdf/i2210f.pdf | Form and Instruction | Form 8878 SP | Autorizacion de firma para presentar por medio del IRS e-file para el Formulario 4868 (SP) o el Formulario 2350 (SP) | https://www.irs.gov/pub/irs-pdf/f8878sp.pdf.
Form and Instruction | Form 2350 | Application for Extension of Time to File U.S. Income Tax Return | https://www.irs.gov/pub/irs-pdf/f2350.pdf | Form and Instruction | Form 8879 | IRS e-file Signature Authorization | https://www.irs.gov/pub/irs-pdf/f8879.pdf.
Form and Instruction | Form 2350 SP | Solicitud de Prorroga para Presentar la Declaracion del Impuesto Personal sobre el Ingreso de lose Estados Unidos | https://www.irs.gov/pub/irs-pdf/f2350sp.pdf | Form and Instruction | Form 8879 SP | Autorizacion de firm para presentar la Declaracion por medio del IRS e-file | https://www.irs.gov/pub/irs-pdf/f8879sp.pdf.
Form | Form 2441 | Child and Dependent Care Expenses | https://www.irs.gov/pub/irs-pdf/f2441.pdf | Form and Instruction | Form 8880 | Credit for Qualified Retirement Savings Contributions | https://www.irs.gov/pub/irs-pdf/f8880.pdf.
Instruction |  |  | https://www.irs.gov/pub/irs-pdf/i2441.pdf | Form and Instruction | Form 8881 | Credit for Small Employer Pensions Plan Startup Costs | https://www.irs.gov/pub/irs-pdf/f8881.pdf.
Form | Form 2555 | Foreign Earned Income | https://www.irs.gov/pub/irs-pdf/f2555.pdf | Form and Instruction | Form 8882 | Credit for Employer-Provided Childcare Facilities and Services | https://www.irs.gov/pub/irs-pdf/f8882.pdf.
Instruction |  |  | https://www.irs.gov/pub/irs-pdf/i2555.pdf | Form | Form 8885 | Health Coverage Tax Credit | https://www.irs.gov/pub/irs-pdf/f8885.pdf.
Form | Form 2555 EZ | Foreign Earned Income Exclusion | Historical: 2019-04-16 | Instruction |  |  | https://www.irs.gov/pub/irs-pdf/i8885.pdf.
Form | Form 3115 | Application for Change in Accounting Method | https://www.irs.gov/pub/irs-pdf/f3115.pdf | Form | Form 8886 | Reportable Transaction Disclosure Statement | https://www.irs.gov/pub/irs-pdf/f8886.pdf.
Instruction |  |  | https://www.irs.gov/pub/irs-pdf/i3115.pdf | Instruction |  |  | https://www.irs.gov/pub/irs-pdf/i8886.pdf.
Form | Form 3468 | Investment Credit | https://www.irs.gov/pub/irs-pdf/f3468.pdf | Form and Instruction | Form 8888 | Direct Deposit of Refund to More than One Account | https://www.irs.gov/pub/irs-pdf/f8888.pdf.
Instruction |  |  | https://www.irs.gov/pub/irs-pdf/i3468.pdf | Form | Form 8889 | Health Savings Accounts (HSAs) | https://www.irs.gov/pub/irs-pdf/f8889.pdf.
Form | Form 3520 | Annual Return to Report Transactions with Foreign Trusts and Receipt of Certain Foreign Gifts | https://www.irs.gov/pub/irs-pdf/f3520.pdf | Instruction |  |  | https://www.irs.gov/pub/irs-pdf/i8889.pdf.
Instruction |  |  | https://www.irs.gov/pub/irs-pdf/i3520.pdf | Form and Instruction | Form 8891 | Beneficiaries of Certain Canadian Registered Retirement Plans | https://www.irs.gov/pub/irs-pdf/f8891.pdf.
Form | Form 3800 | General Business Credit | https://www.irs.gov/pub/irs-pdf/f3800.pdf | Form and Instruction | Form 8896 | Low Sulfur Diesel Fuel Production Credit | https://www.irs.gov/pub/irs-pdf/f8896.pdf.
Instruction |  |  | https://www.irs.gov/pub/irs-pdf/i3800.pdf | Form | Form 8898 | Statement for Individuals Who Begin or End Bona Fide Residence in a U.S. Possession | https://www.irs.gov/pub/irs-pdf/f8898.pdf.
Form | Form 3903 | Moving Expenses | https://www.irs.gov/pub/irs-pdf/f3903.pdf | Instruction |  |  | https://www.irs.gov/pub/irs-pdf/i8898.pdf.
Instruction |  |  | https://www.irs.gov/pub/irs-pdf/i3903.pdf | Form | Form 8900 | Qualified Railroad Track Maintenance Credit | https://www.irs.gov/pub/irs-pdf/f8900.pdf.
Form | Form 4070 | Employee's Report of Tips to Employer | https://www.irs.gov/pub/irs-pdf/p1244.pdf | Instruction |  |  | https://www.irs.gov/pub/irs-pdf/i8900.pdf.
Form | Form 4070A | Employee's Daily Record of Tips | https://www.irs.gov/pub/irs-pdf/p1244.pdf | Form | Form 8903 | Domestic Production Activities Deduction | https://www.irs.gov/pub/irs-pdf/f8903.pdf.
Form | Form 4136 | Credit for Federal Tax Paid on Fuels | https://www.irs.gov/pub/irs-pdf/f4136.pdf | Instruction |  |  | https://www.irs.gov/pub/irs-pdf/i8903.pdf.
Instruction |  |  | https://www.irs.gov/pub/irs-pdf/i4136.pdf | Form and Instruction | Form 8906 | Distills Spirits Credit | https://www.irs.gov/pub/irs-pdf/f8906.pdf.
Form and Instruction | Form 4137 | Social Security and Medicare Tax on Underreported Tip Income | https://www.irs.gov/pub/irs-pdf/f4137.pdf | Form | Form 8908 | Energy Efficient Home Credit | https://www.irs.gov/pub/irs-pdf/f8908.pdf.
Form | Form 4255 | Recapture of Investment Credit | https://www.irs.gov/pub/irs-pdf/f4255.pdf | Instruction |  |  | https://www.irs.gov/pub/irs-pdf/i8908.pdf.
Instruction |  |  | https://www.irs.gov/pub/irs-pdf/i4255.pdf | Form | Form 8910 | Alternative Motor Vehicle Credit | https://www.irs.gov/pub/irs-pdf/f8910.pdf.
Form and Instruction | Form 4361 | Application for Exemption from Self-Employment Tax for Use by Ministers, Members of Religious Orders, and Christian Science Practitioners | https://www.irs.gov/pub/irs-pdf/f4361.pdf | Instruction |  |  | https://www.irs.gov/pub/irs-pdf/i8910.pdf.
Form | Form 4562 | Depreciation and Amortization | https://www.irs.gov/pub/irs-pdf/f4562.pdf | Form | Form 8911 | Alternative Fuel Vehicle Refueling Property Credit | https://www.irs.gov/pub/irs-pdf/f8911.pdf.
Instruction |  |  | https://www.irs.gov/pub/irs-pdf/i4562.pdf | Instruction |  |  | https://www.irs.gov/pub/irs-pdf/i8911.pdf.
Form and Instruction | Form 4563 | Exclusion of Income for Bona Fide Residents of American Samoa | https://www.irs.gov/pub/irs-pdf/f4563.pdf | Form and Instruction | Form 8912 | Credit to Holders of Tax Credit Bonds | https://www.irs.gov/pub/irs-pdf/f8912.pdf.
Form | Form 4684 | Causalities and Thefts | https://www.irs.gov/pub/irs-pdf/f4684.pdf | Instruction | Form 8912 |  | https://www.irs.gov/pub/irs-pdf/i8912.pdf.
Instruction |  |  | https://www.irs.gov/pub/irs-pdf/i4684.pdf | Form | Form 8915-A | Qualified 2016 Disaster Retirement Plan Distributions and Repayments | https://www.irs.gov/pub/irs-pdf/f8915a.pdf.
Form | Form 4797 | Sale of Business Property | https://www.irs.gov/pub/irs-pdf/f4797.pdf | Instruction |  |  | https://www.irs.gov/pub/irs-pdf/i8915a.pdf.
Instruction |  |  | https://www.irs.gov/pub/irs-pdf/i4797.pdf | Form | Form 8915-B | Qualified 2017 Disaster Retirement Plan Distributions and Repayments | https://www.irs.gov/pub/irs-pdf/f8915b.pdf.
Form and Instruction | Form 4835 | Farm Rental Income and Expenses | https://www.irs.gov/pub/irs-pdf/f4835.pdf | Instruction |  |  | https://www.irs.gov/pub/irs-pdf/i8915b.pdf.
Form and Instruction | Form 4852 | Substitute for Form W-2, Wage and Tax Statement or Form 1099-R, Distributions from Pension Annuities, Retirement or Profit-Sharing Plans, IRAs, Insurance Contracts, etc. | https://www.irs.gov/pub/irs-pdf/f4852.pdf | Form | Form 8915-C | Qualified 2018 Disaster Retirement Plan Distributions and Repayments | https://www.irs.gov/pub/irs-pdf/f8915c.pdf.
Form and Instruction | Form 4868 | Application for Automatic Extension of Time to File Individual U.S. Income Tax Return | https://www.irs.gov/pub/irs-pdf/f4868.pdf | Instruction |  | Instructions for Form 8915-C, Qualified 2018 Disaster Retirement Plan Distributions and Repayments | https://www.irs.gov/pub/irs-pdf/i8915c.pdf.
Form and Instruction | Form 4868 SP | Solicitud de Prorroga Automatica para Presentar la Declaracion del Impuesto sobre el Ingreso Personal de los Estados Unidos | https://www.irs.gov/pub/irs-pdf/f4868sp.pdf | Form | 8915-D | Qualified 2019 Disaster Retirement Plan Distributions and Repayments | https://www.irs.gov/pub/irs-pdf/f8915d.pdf.
Form and Instruction | Form 4952 | Investment Interest Expense Deduction | https://www.irs.gov/pub/irs-pdf/f4952.pdf | Instruction |  | Instructions for 8915-D Qualified 2019 Disaster Retirement Plan Distributions and Repayments | https://www.irs.gov/pub/irs-pdf/i8915d.pdf.
Form and Instruction | Form 4970 | Tax on Accumulation Distribution of Trusts | https://www.irs.gov/pub/irs-pdf/f4970.pdf | Form and Instruction | Form 8917 | Tuition and Fees Deduction | https://www.irs.gov/pub/irs-pdf/f8917.pdf.
Form and Instruction | Form 4972 | Tax on Lump-Sum Distributions | https://www.irs.gov/pub/irs-pdf/f4972.pdf | Form and Instruction | Form 8919 | Uncollected Social Security and Medicare Tax on Wages | https://www.irs.gov/pub/irs-pdf/f8919.pdf.
Form and Instruction | Form 5074 | Allocation of Individual Income Tax to Guam or the Commonwealth of the Northern Mariana Islands (CNMI) | https://www.irs.gov/pub/irs-pdf/f5074.pdf | Form | Form 8925 | Report of Employer-Owned Life Insurance Contracts | https://www.irs.gov/pub/irs-pdf/f8925.pdf.
Form and Instruction | Form 5213 | Election to Postpone Determination as to Whether the Presumption Applies that an Activity is Engaged in for Profit | https://www.irs.gov/pub/irs-pdf/f5213.pdf | Form and Instruction | Form 8932 | Credit for Employer Differential Wage Payments | https://www.irs.gov/pub/irs-pdf/f8932.pdf.
Form | Form 5329 | Additional Taxes on Qualified Plans (Including IRAs) and Other Tax-Favored Accounts | https://www.irs.gov/pub/irs-pdf/f5329.pdf | Form | Form 8933 | Carbon Dioxide Sequestration Credit | https://www.irs.gov/pub/irs-pdf/f8933.pdf.
Instruction |  |  | https://www.irs.gov/pub/irs-pdf/i5329.pdf | Form and Instruction | Form 8936 | Qualified Plug-In Electric Drive Motor Vehicle Credit | https://www.irs.gov/pub/irs-pdf/f8936.pdf.
Form | Form 5405 | First-Time Homebuyer Credit | https://www.irs.gov/pub/irs-pdf/f5405.pdf | Instruction |  |  | https://www.irs.gov/pub/irs-pdf/i8936.pdf.
Instruction |  |  | https://www.irs.gov/pub/irs-pdf/i5405.pdf | Form | Form 8941 | Credit for Small Employer Health Insurance Premiums | https://www.irs.gov/pub/irs-pdf/f8941.pdf.
Form | Form 5471 | Information Return of U.S. Persons with Respect to Certain Foreign Corporations | https://www.irs.gov/pub/irs-pdf/f5471.pdf | Instruction |  |  | https://www.irs.gov/pub/irs-pdf/i8941.pdf.
Form | Schedule J (Form 5471) | Accumulated Earnings and Profits (E&P) and Taxes of Controlled Foreign Corporations | https://www.irs.gov/pub/irs-pdf/f5471sj.pdf | Form | Form 8949 | Sales and other Dispositions of Capital Assets | https://www.irs.gov/pub/irs-pdf/f8949.pdf.
Form | Schedule M (Form 5471) | Transactions Between Controlled Foreign Corporation and Shareholders or Other Related Persons | https://www.irs.gov/pub/irs-pdf/f5471sm.pdf | Instruction |  |  | https://www.irs.gov/pub/irs-pdf/i8949.pdf.
Form | Schedule O (Form 5471) | Organization or Reorganization of Foreign Corporation, and Acquisitions and Dispositions of its Stock | https://www.irs.gov/pub/irs-pdf/f5471so.pdf | Form | Form 8958 | Allocation of Tax Amounts Between Certain Individuals in Community Property States | https://www.irs.gov/pub/irs-pdf/f8958.pdf.
Instruction |  |  | https://www.irs.gov/pub/irs-pdf/i5471.pdf | Form | Form 8962 | Premium Tax Credit | https://www.irs.gov/pub/irs-pdf/f8962.pdf.
Form | Form 5695 | Residential Energy Credits | https://www.irs.gov/pub/irs-pdf/f5695.pdf | Instruction |  |  | https://www.irs.gov/pub/irs-pdf/i8962.pdf.
Instruction |  |  | https://www.irs.gov/pub/irs-pdf/i5695.pdf | Form | Form 8965 | Health Coverage Exemptions | https://www.irs.gov/pub/irs-pdf/f8965.pdf.
Form | Form 5713 | International Boycott Report | https://www.irs.gov/pub/irs-pdf/f5713.pdf | Instruction |  |  | https://www.irs.gov/pub/irs-pdf/i8965.pdf.
Form | Schedule A (Form 5713) | International Boycott Factor (Section 999(c)(1)) | https://www.irs.gov/pub/irs-pdf/f5713sa.pdf | Form | 8993 | Section 250 Deduction for Foreign-Derived Intangible Income (FDII) and Global Intangible Low-Taxed Income (GILTI) | https://www.irs.gov/pub/irs-pdf/f8993.pdf.
Form | Schedule B (Form 5713) | Specifically Attributable Taxes and Income (Section 999(c)(2)) | https://www.irs.gov/pub/irs-pdf/f5713sb.pdf | Instruction |  |  | https://www.irs.gov/pub/irs-pdf/i8993.pdf.
Form | Schedule C (Form 5713) | Tax Effect of the International Boycott Provisions | https://www.irs.gov/pub/irs-pdf/f5713sc.pdf | Form | Form 8994 | Employer Credit for Paid Family and Medical Leave | https://www.irs.gov/pub/irs-pdf/f8994.pdf.
Instruction |  |  | https://www.irs.gov/pub/irs-pdf/i5713.pdf | Instruction |  |  | https://www.irs.gov/pub/irs-pdf/i8994.pdf.
Form | Form 5884 | Work Opportunity Cost | https://www.irs.gov/pub/irs-pdf/f5884.pdf | Form | 9000 | Alternative Media Preference | Still under development at the time of release of this notice.
Instruction |  |  | https://www.irs.gov/pub/irs-pdf/i5884.pdf | Form and Instruction | Form 9465 | Installment Agreement Request | https://www.irs.gov/pub/irs-pdf/f9465.pdf.
Form | Form 5884-A | Credits for Affected Disaster Area Employees | https://www.irs.gov/pub/irs-pdf/f5884a.pdf | Instruction |  |  | https://www.irs.gov/pub/irs-pdf/i9465.pdf.
Instruction |  |  | https://www.irs.gov/pub/irs-pdf/i5884a.pdf | Form and Instruction | Form 9465 SP | Solicitud para un Plan de Pagos a Plazos | https://www.irs.gov/pub/irs-pdf/f9465sp.pdf.
Form | Form 6198 | At-Risk Limitations | https://www.irs.gov/pub/irs-pdf/f6198.pdf | Instruction |  |  | https://www.irs.gov/pub/irs-pdf/i9465sp.pdf.
Instruction |  |  | https://www.irs.gov/pub/irs-pdf/i6198.pdf | Form | Form T (Timber) | Forest Activities Schedules | https://www.irs.gov/pub/irs-pdf/ft.pdf.
Form | Form 6251 | Alternative Minimum Tax-Individuals | https://www.irs.gov/pub/irs-pdf/f6251.pdf | Instruction |  |  | https://www.irs.gov/pub/irs-pdf/it.pdf.
Instruction | Form 6251 |  | https://www.irs.gov/pub/irs-pdf/i6251.pdf | Form and Instruction | Form W-4 | Employee's Withholding Allowance Certificate | https://www.irs.gov/pub/irs-pdf/fw4.pdf.
Form and Instruction | Form 6252 | Installment Sale Income | https://www.irs.gov/pub/irs-pdf/f6252.pdf | 2018 Form | Form W-4 |  | https://www.irs.gov/pub/irs-pdf/fw4_18.pdf.
Form | Form 6478 | Biofuel Producer Credit | https://www.irs.gov/pub/irs-pdf/f6478.pdf | Form and Instruction | Form W—4 P | Withholding Certificate for Pension or Annuity Payments | https://www.irs.gov/pub/irs-pdf/fw4p.pdf.
Instruction |  |  | https://www.irs.gov/pub/irs-pdf/i6478.pdf | 2018 Form |  |  | https://www.irs.gov/pub/irs-pdf/fw4p_18.pdf.
Form | Form 6765 | Credit for Increasing Research Activities | https://www.irs.gov/pub/irs-pdf/f6765.pdf | Form and Instruction | Form W-4 S | Request for Federal Income Tax Withholding from Sick Pay | https://www.irs.gov/pub/irs-pdf/fw4s.pdf.
Instruction |  |  | https://www.irs.gov/pub/irs-pdf/i6765.pdf | 2018 Form |  |  | https://www.irs.gov/pub/irs-pdf/fw4s_18.pdf.
Form and Instruction | Form 6781 | Gains and Losses from Section 1256 Contracts and Straddles | https://www.irs.gov/pub/irs-pdf/f6781.pdf | Form and Instruction | Form W-4 V | Voluntary Withholding Request | https://www.irs.gov/pub/irs-pdf/fw4v.pdf.
Form | Form 8082 | Notice of Inconsistent Treatment or Administrative Adjustment Request (AAR) | https://www.irs.gov/pub/irs-pdf/f8082.pdf | Form and Instruction | Form W-4 (SP) | Certificado de Exencion de la Retencion del Empleado | https://www.irs.gov/pub/irs-pdf/fw4sp.pdf.
Instruction |  |  | https://www.irs.gov/pub/irs-pdf/i8082.pdf | Form and Instruction | Form W-7 | Application for IRS Individual Taxpayer Identification Number | https://www.irs.gov/pub/irs-pdf/fw7.pdf.
Form | Form 8275 | Disclosure Statement | https://www.irs.gov/pub/irs-pdf/f8275.pdf | Instruction |  |  | https://www.irs.gov/pub/irs-pdf/iw7.pdf.
Instruction |  |  | https://www.irs.gov/pub/irs-pdf/i8275.pdf | Form and Instruction | Form W-7 A | Application for Taxpayer Identification Number for Pending U.S. Adoptions | https://www.irs.gov/pub/irs-pdf/fw7a.pdf.
Form | Form 8275-R | Regulation Disclosure Statement | https://www.irs.gov/pub/irs-pdf/f8275r.pdf | Form and Instruction | Form W-7 (SP) | Solicitud de Numero de Indenticacion Personal del Contribuyente del Servico de Impuestos Internos | https://www.irs.gov/pub/irs-pdf/fw7sp.pdf.
Instruction |  |  | https://www.irs.gov/pub/irs-pdf/i8275r.pdf | Instruction |  |  | https://www.irs.gov/pub/irs-pdf/iw7sp.pdf.
Form | Form 8283 | Noncash Charitable Contributions | https://www.irs.gov/pub/irs-pdf/f8283.pdf | Form | Form W-7 (COA) | Certificate of Accuracy for IRS Individual Taxpayer Identification Number | https://www.irs.gov/pub/irs-pdf/fw7coa.pdf.
Instruction |  |  | https://www.irs.gov/pub/irs-pdf/i8283.pdf | Other: Notice 2006-52 |  | https://www.irs.gov/pub/irs-irbs/irb06-26.pdf.
Form and Instruction | Form 8332 | Release of Claim to Exemption for Child of Divorced or Separated Parents | https://www.irs.gov/pub/irs-pdf/f8332.pdf | Other: Notice 2008-40 |  | https://www.irs.gov/pub/irs-irbs/irb08-14.pdf.
Form and Instruction | Form 8379 | Injured Spouse Claim and Allocation | https://www.irs.gov/pub/irs-pdf/f8379.pdf | Other: Publication 972 Tables |  | https://www.irs.gov/pub/irs-pdf/p972.pdf.
Instruction |  |  | https://www.irs.gov/pub/irs-pdf/i8379.pdf | Other: TD 9408 |  | https://www.irs.gov/pub/irs-irbs/irb08-33.pdf.
Form and Instruction | Form 8396 | Mortgage Interest Credit | https://www.irs.gov/pub/irs-pdf/f8396.pdf |  |  |  |
Form and Instruction | Form 8453 | U.S. Individual Income Tax Declaration for an IRS e-file Return | https://www.irs.gov/pub/irs-pdf/f8453.pdf |  |  |  |

Document type | Form No. | Form name | URL | Document type | Form No. | Form name | URL
New Additions or updates to 1545-0074
Form | Schedule LEP | Request for Alternative Language Products by Taxpayers with Limited English Proficiency (LEP) | Still under development at the time of release of this notice | Form | 9000 | Alternative Media Preference | Still under development at the time of release of this notice.
Form | Schedule LEP (SP) | Schedule LEP Limited English Proficiency (SP) | Still under development at the time of release of this notice | Rev. Proc. | 2004-12 | Section 35.—Health Insurance Costs of Eligible Individuals | https://www.irs.gov/pub/irs-irbs/irb04-09.pdf.
Form | Schedule 1 (SP) (F. 1040) | Additional Income and Adjustments to Income in Spanish | Still under development at the time of release of this notice | Form | Schedule 8812(SP) (Form 1040) | Additional Tax Credit (Spanish version) | Still under development at the time of release of this notice.
Form | Schedule 2 (SP) (F. 1040) | Additional Taxes in Spanish | Still under development at the time of release of this notice | Instruction | 8812 | Instructions for Schedule 8812 (Spanish version) | Still under development at the time of release of this notice.
Form | Schedule 3 (SP) (F. 1040) | Additional Credits and Payments in Spanish | Still under development at the time of release of this notice | Instruction | Schedule 8812 (Form 1040) | Instructions for Schedule 8812 | https://www.irs.gov/pub/irs-pdf/i1040s8.pdf.
Form | Schedule EIC (SP) (F. 1040) | Earned Income Credit (Spanish version) | Still under development at the time of release of this notice | Instruction | 8915-C | Instructions for Form 8915-C, Qualified 2018 Disaster Retirement Plan Distributions and Repayments | https://www.irs.gov/pub/irs-pdf/i8915c.pdf.
Form | 8915-D | Qualified 2019 Disaster Retirement Plan Distributions and Repayments | https://www.irs.gov/pub/irs-pdf/f8915d.pdf | Form | 8993 | Section 250 Deduction for Foreign-Derived Intangible Income (FDII) and Global Intangible Low-Taxed Income (GILTI) | https://www.irs.gov/pub/irs-pdf/f8993.pdf.
Instruction |  | Instructions for 8915-D Qualified 2019 Disaster Retirement Plan Distributions and Repayments | https://www.irs.gov/pub/irs-pdf/i8915d.pdf | Instruction |  |  | https://www.irs.gov/pub/irs-pdf/i8993.pdf.
TD | 9902 | Guidance Under Sections 951A and 954 Regarding Income Subject to a High Rate of Foreign Tax | https://www.govinfo.gov/content/pkg/FR-2020-07-23/pdf/2020-15351.pdf?utm_*medium=email&utm_campaign=subscription+mailing+list&A1utm_source=federalregister.gov | Form | 8915-E | Qualified 2020 Disaster Retirement Plan Distributions and Repayments | Still under development at the time of release of this notice.
TD | 9920 | Income Tax Withholding on Certain Periodic Retirement and Annuity Payments Under Section 3405(a) | https://www.govinfo.gov/content/pkg/FR-2020-10-01/pdf/2020-21777.pdf |  |  |  |
TD | 9924 | Income Tax Withholding from Wages | https://www.govinfo.gov/content/pkg/FR-2020-10-06/pdf/2020-22071.pdf |  |  |  |

[FR Doc. 2020-24139 Filed 10-29-20; 8:45 am]

BILLING CODE 4830-01-P